DEPARTMENT OF TRANSPORTATION

Coast Guard

[USCG-2001-10998]

Environmental Assessment and Finding of No Significant Impact for Establishment of National Coast Guard Museum

AGENCY: Coast Guard, DOT.

ACTION: Notice of availability.

SUMMARY: The Coast Guard announces the availability of the Final Environmental Assessment and Finding of No Significant Impact regarding its proposal to accept a gift of land for purposes of relocating the Coast Guard Museum to a site near the U.S. Coast Guard Academy in New London, Connecticut. This final environmental assessment evaluates the environmental and socioeconomic impacts of establishing the Coast Guard Museum along with the associated acquisition of property and construction of the building. The Finding of No Significant Impact records the Coast Guard's determination that the proposed acceptance of a gift of property would have no significant impact on the environment.

ADDRESSES: The material referenced in this notice is available for inspection and copying at Docket Management Facility, (USCG-2001-10998), U.S. Department of Transportation, room PL-401, 400 Seventh Street SW., Washington, DC 20590-0001, and on the internet at http://dms.dot.gov. Written requests for copies of the Final Environmental Assessment and Finding of No Significant Impact, or requests for information, should be directed to: Commandant (G-LEL) U.S. Coast Guard Headquarters, 2100 2nd Street SW., Washington, DC 20593.

FOR FURTHER INFORMATION CONTACT: If you have questions on this notice, the proposed project, or the associated documents, call Frank Esposito, Coast Guard Headquarters, at 202-267-0053. If you have questions on viewing the docket, call Dorothy Beard, Chief, Dockets, Department of Transportation, at 202-366-5149.

SUPPLEMENTARY INFORMATION: On November 21, 2001, the Coast Guard published a notice in the Federal Register (66 FR 58547) requesting comments on a Draft Environmental Assessment (DEA). We subsequently extended the comment period to February 8, 2002 (67 FR 1261, January 9, 2002). The DEA reviewed the proposal to accept a gift of land for purposes of relocating the Coast Guard Museum to a site near the U.S. Coast Guard Academy in New London, Connecticut.

The Final Environmental Assessment (FEA) has been completed. This FEA evaluates the environmental and socioeconomic impacts of establishing the Coast Guard Museum along with the associated acquisition of property and construction of the building. It also includes comments received from the public as well as regulatory and other government agencies during development of the environmental assessment. The Finding of No Significant Impact (FONSI) records the Coast Guard's determination that the proposed acceptance of a gift of property would have no significant impact on the environment.

The FEA, FONSI, and comments received during development of the environmental assessment are available for public inspection or copying at the Document Management Facility listed in ADDRESSES. The Docket Management Facility is open between 9 a.m. and 5 p.m., Monday through Friday, except Federal holidays. You may also find this docket on the Internet at http://dms.dot.gov. (Once you enter the web site, click on “Search,” enter the last five digits of the docket number (“10998”) in the search box, and press the Enter key.)

You may also inspect or copy the FEA and FONSI at U.S. Coast Guard Headquarters, 2100 2nd Street SW., Washington, DC. To request a copy of the FEA and/or FONSI, write to the Coast Guard Headquarters' address listed in ADDRESSES.

Dated: March 28, 2002.
K.J. Eldridge,
Assistant Commandant for Governmental and Public Affairs.

[FR Doc. 02-8342 Filed 4-4-02; 8:45 am]

BILLING CODE 4910-15-P